ENVIRONMENTAL PROTECTION AGENCY

[FRL-6899-3]

Notice of Public Comment Period for the Draft Report to Congress II From the National Environmental Education Advisory Council

Notice is hereby given that the National Environmental Education Advisory Council, established under Section 9 if the National Environmental Education Act of 1990 (the Act), is providing the public with an opportunity to provide written comments on the draft Report to Congress II. The purpose of this Report is to provide Congress with an assessment of the status of environmental education and to report effects of the Act. The draft Report to Congress II can be found on the Office of Environmental Education web site (www.epa.gov/enviroed) until December 31, 2000. Paper copy is available by request only.

Members of the public are invited to submit written comments to Ginger Keho, Office of Environmental Education (1704A), Office of Communications, Education and Media Relations, U.S. Environmental Protection Agency, 1200 Pennsylvania Ave., NW Washington, DC 20460 or by e-mail at keho.ginger@epa.gov. Written comments will be accepted until December 31, 2000.

Dated: November 1, 2000.
Ginger Keho,
Designated Federal Official, Office of Environmental Education.

[FR Doc. 00-28809 Filed 11-8-00; 8:45 am]

BILLING CODE 6560-50-U